DEPARTMENT OF HEALTH AND HUMAN SERVICES

Health Resources and Services Administration

Health Center Program

AGENCY: Health Resources and Services Administration (HRSA), Department of Health and Human Services.

ACTION: Announcing Period of Performance Extensions with Funding for Health Center Program Award Recipients in Lexington, Kentucky and Worcester, Massachusetts.

SUMMARY: Additional grant funds were provided to two Health Center Program award recipients in Lexington, Kentucky and Worcester, Massachusetts with periods of performance ending in fiscal year (FY) 2022 to extend their periods of performance by up to 7 months to ensure the ongoing delivery of services until a new award could be made.

SUPPLEMENTARY INFORMATION:

Recipients of the Award: HRSA has provided additional grant funds to two award recipients, as listed in Table 1, in Lexington, Kentucky and Worcester, Massachusetts, to ensure that individuals in the service areas received uninterrupted access to needed health care services.

Amount of Non-Competitive Awards: Two awards totaling $3,604,971.

Period of Supplemental Funding: FY 2022.

Assistance Listings (CFDA) Number: 93.224

Authority: PHS Act (42 U.S.C. 254b).

Justification: HRSA extended the FY 2022 periods of performance with prorated supplemental grant funds to two award recipients in Lexington, Kentucky and Worcester, Massachusetts for 7 months and 4 months, respectively, until a new award could be made for each service area. Continued funding to these Health Center Program award recipients ensured that individuals in the service areas received uninterrupted access to needed health care services. The additional grant funds enabled HRSA to support consistent health care to beneficiaries, eliminate funding gaps, and demonstrate administrative efficiencies. HRSA awarded a total of $3,604,971 to the two existing Health Center Program award recipients noted in Table 1.

Table 1—Recipients and Award Amounts
Grant number | Award recipient name | City, state | Extension length | Award amount
H80CS06650 | University of Kentucky Research Foundation | Lexington, Kentucky | 7 months | $1,345,884
H80CS00452 | Family Health Center of Worcester, Inc. | Worcester, Massachusetts | 4 months | 2,259,087

FOR FURTHER INFORMATION CONTACT: Erica Clift, Ongoing Investments Director, Office of Policy and Program Development, Bureau of Primary Health Care, HRSA, at eclift@hrsa.gov or 301-594-4300.

Diana Espinosa,
Deputy Administrator.

[FR Doc. 2022-19624 Filed 9-9-22; 8:45 am]

BILLING CODE 4165-16-P